POSTAL REGULATORY COMMISSION

[Docket Nos. CP2017-23, MC2018-87 and CP2018-129; MC2018-88 and CP2018-130; MC2018-89 and CP2018-131; MC2018-90 and CP2018-132; MC2018-91 and CP2018-133; MC2018-92 and CP128-134; MC2018-93 and CP2018-135; MC2018-94 and CP2018-136; MC2018-95 and CP2018-137; MC2018-96 and CP2018-138; MC2018-97 and CP2018-139; MC2018-98 and CP2018-140; MC2018-99 and CP2018-141; MC2018-100 and CP2018-142; MC2018-101 and CP2018-143; MC2018-102 and CP2018-144; MC2018-103 and CP2018-145; MC2018-104 and CP2018-146; MC2018-105 and CP2018-147; MC2018-106 and CP2018-148; MC2018-107 and CP2018-149; MC2018-108 and CP2018-150; MC2018-109 and CP2018-151]

New Postal Products

AGENCY: Postal Regulatory Commission.

ACTION: Notice.

SUMMARY: The Commission is noticing recent Postal Service filings for the Commission's consideration concerning negotiated service agreements. This notice informs the public of the filing, invites public comment, and takes other administrative steps.

DATES: Comments are due: January 5, 2018, January 8, 2018, January 9, 2018, January 10, 2018, January 11, 2018, and January 12, 2018.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: The January 5, 2018 comment due date applies to Docket Nos. MC2018-87 and CP2018-129; MC2018-88 and CP2018-130; MC2018-89 and CP2018-131.

The January 8, 2018 comment due date applies to Docket Nos. MC2018-90 and CP2018-132; MC2018-91 and CP2018-133; MC2018-92 and CP2018-134; MC2018-93 and CP2018-135; MC2018-94 and CP2018-136.

The January 9, 2018 commend due date applies to Docket Nos. CP2017-23; MC2018-95 and CP2018-137; MC2018-96 and CP2018-138; MC2018-97 and CP2018-139; MC2018-98 and CP2018-140.

The January 10, 2018 commend due date applies to Docket Nos. MC2018-99 and CP2018-141; MC2018-100 and CP2018-142; MC2018-101 and CP2018-143; MC2018-102 and CP2018-144; MC2018-103 and CP2018-145.

The January 11, 2018 commend due date applies to Docket Nos. MC2018-104 and CP2018-146; MC2018-105 and CP2018-147; MC2018-106 and CP2018-148; MC2018-107 and CP2018-149; MC2018-108 and CP2018-150.

The January 12, 2018 commend due date applies to Docket Nos. MC2018-109 and CP2018-151.

Table of Contents

I. Introduction

II. Docketed Proceeding(s)

I. Introduction

The Commission gives notice that the Postal Service filed request(s) for the Commission to consider matters related to negotiated service agreement(s). The request(s) may propose the addition or removal of a negotiated service agreement from the market dominant or the competitive product list, or the modification of an existing product currently appearing on the market dominant or the competitive product list.

Section II identifies the docket number(s) associated with each Postal Service request, the title of each Postal Service request, the request's acceptance date, and the authority cited by the Postal Service for each request. For each request, the Commission appoints an officer of the Commission to represent the interests of the general public in the proceeding, pursuant to 39 U.S.C. 505 (Public Representative). Section II also establishes comment deadline(s) pertaining to each request.

The public portions of the Postal Service's request(s) can be accessed via the Commission's website (http://www.prc.gov). Non-public portions of the Postal Service's request(s), if any, can be accessed through compliance with the requirements of 39 CFR 3007.40.

The Commission invites comments on whether the Postal Service's request(s) in the captioned docket(s) are consistent with the policies of title 39. For request(s) that the Postal Service states concern market dominant product(s), applicable statutory and regulatory requirements include 39 U.S.C. 3622, 39 U.S.C. 3642, 39 CFR part 3010, and 39 CFR part 3020, subpart B. For request(s) that the Postal Service states concern competitive product(s), applicable statutory and regulatory requirements include 39 U.S.C. 3632, 39 U.S.C. 3633, 39 U.S.C. 3642, 39 CFR part 3015, and 39 CFR part 3020, subpart B. Comment deadline(s) for each request appear in section II.

II. Docketed Proceeding(s)

1. Docket No(s).: CP2017-23; Filing Title: USPS Notice of Change in Prices Pursuant to Amendment to Priority Mail Contract 250; Filing Acceptance Date: December 27, 2017; Filing Authority: 39 CFR 3015.5; Public Representative: Christopher C. Mohr; Comments Due: January 9, 2018.

2. Docket No(s).: MC2018-87 and CP2018-129; Filing Title: USPS Request to Add Priority Mail Express & Priority Mail Contract 57 to Competitive Product List and Notice of Filing Materials Under Seal; Filing Acceptance Date: December 27, 2017; Filing Authority: 39 U.S.C. 3642 and 39 CFR 3020.30 et seq.; Public Representative: Kenneth R. Moeller; Comments Due: January 5, 2018.

3. Docket No(s).: MC2018-88 and CP2018-130; Filing Title: USPS Request to Add Priority Mail Express & Priority Mail Contract 58 to Competitive Product List and Notice of Filing Materials Under Seal; Filing Acceptance Date: December 27, 2017; Filing Authority: 39 U.S.C. 3642 and 39 CFR 3020.30 et seq.; Public Representative: Kenneth R. Moeller; Comments Due: January 5, 2018.

4. Docket No(s).: MC2018-89 and CP2018-131; Filing Title: USPS Request to Add Priority Mail Express & Priority Mail Contract 59 to Competitive Product List and Notice of Filing Materials Under Seal; Filing Acceptance Date: December 27, 2017; Filing Authority: 39 U.S.C. 3642 and 39 CFR 3020.30 et seq.; Public Representative: Jennaca D. Upperman; Comments Due: January 5, 2018.

5. Docket No(s).: MC2018-90 and CP2018-132; Filing Title: USPS Request to Add Priority Mail Express, Priority Mail & First-Class Package Service Contract 32 to Competitive Product List and Notice of Filing Materials Under Seal; Filing Acceptance Date: December 27, 2017; Filing Authority: 39 U.S.C. 3642 and 39 CFR 3020.30 et seq.; Public Representative: Jennaca D. Upperman; Comments Due: January 8, 2018.

6. Docket No(s).: MC2018-91 and CP2018-133; Filing Title: USPS Request to Add Priority Mail Express Contract 58 to Competitive Product List and Notice of Filing Materials Under Seal; Filing Acceptance Date: December 27, 2017; Filing Authority: 39 U.S.C. 3642 and 39 CFR 3020.30 et seq.; Public Representative: Christopher C. Mohr; Comments Due: January 8, 2018.

7. Docket No(s).: MC2018-92 and CP2018-134; Filing Title: USPS Request to Add Priority Mail Express Contract 59 to Competitive Product List and Notice of Filing Materials Under Seal; Filing Acceptance Date: December 27, 2017; Filing Authority: 39 U.S.C. 3642 and 39 CFR 3020.30 et seq.; Public Representative: Christopher C. Mohr; Comments Due: January 8, 2018.

8. Docket No(s).: MC2018-93 and CP2018-135; Filing Title: USPS Request to Add Priority Mail Express Contract 60 to Competitive Product List and Notice of Filing Materials Under Seal; Filing Acceptance Date: December 27, 2017; Filing Authority: 39 U.S.C. 3642 and 39 CFR 3020.30 et seq.; Public Representative: Christopher C. Mohr; Comments Due: January 8, 2018.

9. Docket No(s).: MC2018-94 and CP2018-136; Filing Title: USPS Request to Add Priority Mail & First-Class Package Service Contract 71 to Competitive Product List and Notice of Filing Materials Under Seal; Filing Acceptance Date: December 27, 2017; Filing Authority: 39 U.S.C. 3642 and 39 CFR 3020.30 et seq.; Public Representative: Lawrence Fenster; Comments Due: January 8, 2018.

10. Docket No(s).: MC2018-95 and CP2018-137; Filing Title: USPS Request to Add Priority Mail & First-Class Package Service Contract 72 to Competitive Product List and Notice of Filing Materials Under Seal; Filing Acceptance Date: December 27, 2017; Filing Authority: 39 U.S.C. 3642 and 39 CFR 3020.30 et seq.; Public Representative: Lawrence Fenster; Comments Due: January 9, 2018.

11. Docket No(s).: MC2018-96 and CP2018-138; Filing Title: USPS Request to Add Priority Mail & First-Class Package Service Contract 73 to Competitive Product List and Notice of Filing Materials Under Seal; Filing Acceptance Date: December 27, 2017; Filing Authority: 39 U.S.C. 3642 and 39 CFR 3020.30 et seq.; Public Representative: Natalie R. Ward; Comments Due: January 9, 2018.

12. Docket No(s).: MC2018-97 and CP2018-139; Filing Title: USPS Request to Add First-Class Package Service Contract 91 to Competitive Product List and Notice of Filing Materials Under Seal; Filing Acceptance Date: December 27, 2017; Filing Authority: 39 U.S.C. 3642 and 39 CFR 3020.30 et seq.; Public Representative: Natalie R. Ward; Comments Due: January 9, 2018.

13. Docket No(s).: MC2018-98 and CP2018-140; Filing Title: USPS Request to Add Priority Mail Contract 403 to Competitive Product List and Notice of Filing Materials Under Seal; Filing Acceptance Date: December 27, 2017; Filing Authority: 39 U.S.C. 3642 and 39 CFR 3020.30 et seq.; Public Representative: Matthew R. Ashford; Comments Due: January 9, 2018.

14. Docket No(s).: MC2018-99 and CP2018-141; Filing Title: USPS Request to Add Priority Mail Contract 404 to Competitive Product List and Notice of Filing Materials Under Seal; Filing Acceptance Date: December 27, 2017; Filing Authority: 39 U.S.C. 3642 and 39 CFR 3020.30 et seq.; Public Representative: Matthew R. Ashford; Comments Due: January 10, 2018.

15. Docket No(s).: MC2018-100 and CP2018-142; Filing Title: USPS Request to Add Priority Mail Contract 405 to Competitive Product List and Notice of Filing Materials Under Seal; Filing Acceptance Date: December 27, 2017; Filing Authority: 39 U.S.C. 3642 and 39 CFR 3020.30 et seq.; Public Representative: Matthew R. Ashford; Comments Due: January 10, 2018.

16. Docket No(s).: MC2018-101 and CP2018-143; Filing Title: USPS Request to Add Priority Mail Contract 406 to Competitive Product List and Notice of Filing Materials Under Seal; Filing Acceptance Date: December 27, 2017; Filing Authority: 39 U.S.C. 3642 and 39 CFR 3020.30 et seq.; Public Representative: Michael L. Leibert; Comments Due: January 10, 2018.

17. Docket No(s).: MC2018-102 and CP2018-144; Filing Title: USPS Request to Add Priority Mail Contract 407 to Competitive Product List and Notice of Filing Materials Under Seal; Filing Acceptance Date: December 27, 2017; Filing Authority: 39 U.S.C. 3642 and 39 CFR 3020.30 et seq.; Public Representative: Michael L. Leibert; Comments Due: January 10, 2018.

18. Docket No(s).: MC2018-103 and CP2018-145; Filing Title: USPS Request to Add Priority Mail Contract 408 to Competitive Product List and Notice of Filing Materials Under Seal; Filing Acceptance Date: December 27, 2017; Filing Authority: 39 U.S.C. 3642 and 39 CFR 3020.30 et seq.; Public Representative: Curtis E. Kidd; Comments Due: January 10, 2018.

19. Docket No(s).: MC2018-104 and CP2018-146; Filing Title: USPS Request to Add Priority Mail Contract 409 to Competitive Product List and Notice of Filing Materials Under Seal; Filing Acceptance Date: December 27, 2017; Filing Authority: 39 U.S.C. 3642 and 39 CFR 3020.30 et seq.; Public Representative: Curtis E. Kidd; Comments Due: January 11, 2018.

20. Docket No(s).: MC2018-105 and CP2018-147; Filing Title: USPS Request to Add Priority Mail Contract 410 to Competitive Product List and Notice of Filing Materials Under Seal; Filing Acceptance Date: December 27, 2017; Filing Authority: 39 U.S.C. 3642 and 39 CFR 3020.30 et seq.; Public Representative: Curtis E. Kidd; Comments Due: January 11, 2018.

21. Docket No(s).: MC2018-106 and CP2018-148; Filing Title: USPS Request to Add Priority Mail Contract 411 to Competitive Product List and Notice of Filing Materials Under Seal; Filing Acceptance Date: December 27, 2017; Filing Authority: 39 U.S.C. 3642 and 39 CFR 3020.30 et seq.; Public Representative: Gregory Stanton; Comments Due: January 11, 2018.

22. Docket No(s).: MC2018-107 and CP2018-149; Filing Title: USPS Request to Add Priority Mail Contract 412 to Competitive Product List and Notice of Filing Materials Under Seal; Filing Acceptance Date: December 27, 2017; Filing Authority: 39 U.S.C. 3642 and 39 CFR 3020.30 et seq.; Public Representative: Gregory Stanton; Comments Due: January 11, 2018.

23. Docket No(s).: MC2018-108 and CP2018-150; Filing Title: USPS Request to Add Priority Mail Contract 413 to Competitive Product List and Notice of Filing Materials Under Seal; Filing Acceptance Date: December 27, 2017; Filing Authority: 39 U.S.C. 3642 and 39 CFR 3020.30 et seq.; Public Representative: Katalin K. Clendenin; Comments Due: January 11, 2018.

24. Docket No(s).: MC2018-109 and CP2018-151; Filing Title: USPS Request to Add Priority Mail Contract 414 to Competitive Product List and Notice of Filing Materials Under Seal; Filing Acceptance Date: December 27, 2017; Filing Authority: 39 U.S.C. 3642 and 39 CFR 3020.30 et seq.; Public Representative: Katalin K. Clendenin; Comments Due: January 12, 2018.

This notice will be published in the Federal Register.

Ruth Ann Abrams,
Acting Secretary.

[FR Doc. 2017-28441 Filed 1-3-18; 8:45 am]

BILLING CODE 7710-FW-P